DEPARTMENT OF COMMERCE

National Oceanic and Atmospheric Administration

RIN 0648-XC10

Western Pacific Pelagic Fisheries, Hawaii-based Longline Swordfish Fishery; Scoping Process

AGENCY: National Marine Fisheries Service (NMFS), National Oceanic and Atmospheric Administration (NOAA), Commerce.

ACTION: Notice of intent to prepare a supplemental environmental impact statement and notice of initiation of scoping process; request for comments.

SUMMARY: The Western Pacific Fishery Management Council (WPFMC) and NMFS announce their intent to prepare a Supplemental Environmental Impact Statement (SEIS) in accordance with the National Environmental Policy Act of 1969 (NEPA) on the federal management of the Hawaii-based shallow-set pelagic longline fishery in the western Pacific. The SEIS will supplement the March 30, 2001, Final EIS on the Fishery Management Plan for Pelagic Fisheries of the Western Pacific Region as well as the March 5, 2004, Final SEIS on Management Measures to Implement New Technologies for the Western Pacific Longline Fisheries.

DATES: The WPFMC and NMFS will discuss alternatives and take scoping comments at a public meeting on August 30, 2007, from 6-9 p.m.

Written scoping comments must be received by September 20, 2007.

ADDRESSES: The public meeting will be held at the Ala Moana Hotel, 410 Atkinson Dr., Honolulu, HI 96815.

Written comments may be submitted by any of the following methods:

• Mail: William L. Robinson, Regional Administrator, Pacific Islands Region, NMFS, 1601 Kapiolani Blvd., Suite 1110, Honolulu, HI 96814. Please write on the envelope: “Scoping Comments on HI Swordfish SEIS”; or

• E-mail: HILonglineScoping@noaa.gov.

FOR FURTHER INFORMATION CONTACT: Kitty Simonds, Executive Director, WPFMC, (808) 522-8220, or William L. Robinson, Regional Administrator, NMFS, (808) 944-2200.

SUPPLEMENTARY INFORMATION: The SEIS will consider alternatives for modifying the current regulatory structure for the Hawaii-based shallow-set pelagic longline fishery (“the fishery”) to provide increased opportunities to harvest swordfish while continuing to avoid, to the extent practicable, the incidental catch of seabirds, marine mammals, and threatened and endangered sea turtles. Potential regulatory changes to be analyzed in the SEIS include: modifying or eliminating the existing limit on fishing effort; maintaining or eliminating longline “set certificates” that limit the amount of fishing effort in the fishery; retaining or eliminating hard “caps” (limits) on the incidental take of sea turtles which, if reached, close the fishery for the remainder of the year; the use of time and/or area restrictions in combination with caps on interactions with loggerhead and leatherback sea turtles; modifications to assessment methodologies; changes in observer coverage; and other management alternatives designed to increase incentives to avoid interactions with sea turtles and other protected resources. The SEIS will analyze the impacts of the range of reasonable alternatives on the affected human environment, including the No Action alternative, and the potential impacts on affected populations of sea turtles. The SEIS will include an update on the status of the biological and economic factors affecting the fishery, analysis of the impacts of regulatory measures currently in effect in the shallow-set fishery since 2004, summary of information on international conservation efforts, and a discussion of the potential transferred effects on both target- and incidentally-caught species to other national fishing fleets from regulatory restrictions in the domestic fishery.

Under the Magnuson-Stevens Fishery Conservation and Management Act (16 U.S.C. 1801 et seq.), the United States has exclusive management authority over all living marine resources found within the Exclusive Economic Zone (EEZ). Management of these marine resources, with the exception of seabirds and some marine mammals, is vested in the Secretary of Commerce (Secretary). Eight Regional Fishery Management Councils prepare fishery management plans which are reviewed for approval and implementation by the Secretary. The WPFMC has the responsibility to prepare fishery management plans for fishery resources in the EEZ of the western Pacific.

Pelagic fisheries in the EEZ and on the high seas of the western Pacific have been managed under the Fishery Management Plan for the Pelagics Fisheries of the Western Pacific Region (FMP) and its amendments since 1986. Managed resources include both marketable (primarily billfishes and tunas), and non-marketable (primarily sharks) species. Fisheries managed under the FMP include pelagic longline, troll, handline, pole-and-line (bait boat), and charter-boat fisheries. Management measures include gear restrictions, vessel size limitations, time and area closures, access limitations, and other measures.

Longline fisheries of the western Pacific are further regulated under two classifications: (1) The “shallow-set” component that targets swordfish, and (2) the “deep-set” component that targets that targets tuna. The shallow-set component of the Hawaii-based longline fishery currently operates under the following regulations: an annual set limit of 2,120 shallow-sets (half of the 1994-99 historical average); mandatory night setting; the required use of 18/0 circle hooks or larger (with a 10 degree offset) and blue-dyed mackerel-type bait; closure of the fishery if sea turtle interaction limits are reached for loggerhead (17) or leatherback (16) sea turtles; and other measures. The sea turtle interaction limits were established based on a biological opinion issued by NMFS on February 23, 2004, associated with management measures to implement new technologies for the western Pacific longline fisheries. The biological opinion also requires 100 percent federal observer coverage in the shallow-set fishery.

In February 2007, the WPFMC and NMFS received a proposal from the Hawaii Longline Association (HLA) requesting an amendment to the Pelagics FMP and related MSA regulations concerning the Hawaii-based shallow-set longline fishery. The proposal requests that the WPFMC consider amending the Pelagics FMP to eliminate the existing annual fishing effort limit of 2,120 sets. The HLA proposal is premised on new information obtained since the implementation of the existing shallow-set fishery regime in early 2004 (Gilman and Kobayashi ¹). The new information pertains primarily to sea turtle interaction and mortality rates. The analysis done by Gilman and Kobayashi indicate a reduction in sea turtle capture rates and in the type of incidental hookings (lightly hooked vs. deeply hooked in the mouth or swallowed) observed during sea turtle interactions with longline gear. Combined sea turtle capture rates have declined by 89 percent in comparison to historical capture rates in the shallow-set fishery. Deep hooking (thought to result in sea turtle mortality) rates have also declined to 15 percent of all loggerhead sea turtle captures and zero percent of leatherback sea turtle captures. Prior to requiring the use of circle hooks and mackerel-type bait in the Hawaii-based longline shallow-set fishery, 51 percent of the sea turtles were believed to have been deeply hooked. No green or olive ridley sea turtles have been incidentally caught in the current shallow-set fishery.

¹ Gilman, E., and D. Kobayashi. In press. Sea turtle interactions in the Hawaii-based swordfish fishery first quarter 2007 and comparison to previous periods.

The WPFMC and NMFS will consider a range of alternatives that may modify the current regulatory structure for the Hawaii-based pelagic longline shallow-set fishery. Preliminary alternatives that may be analyzed in the SEIS and considered by the WPFMC and NMFS include the following:

Longline Fishing Effort:

1. No action - keep 2120 set limit;

2. Allow 3,000 sets;

3. Allow 4,000 sets; and

4. Do not limit sets.

Time-Area Closures:

1. No action - no time-area closures;

2. Implement pre-season monthly closure of waters in designated sea turtle “hot spots” based on historical and contemporary sea surface temperature data; and

3. Implement in-season closure of waters based on analysis of sea surface temperature data.

Interaction Hard Cap for Loggerhead and Leatherback Sea Turtles:

1. No action - continue limitations of sea turtle interactions using caps set by NMFS; and

2. Discontinue limitations of sea turtle interactions using caps set by NMFS.

Fishery Participation:

1. No action - keep set certificates; and

2. Remove set certificates.

Assessment Methodology:

1. No action - annual (1 year) cap on interactions with loggerhead and leatherback turtles (numbers of sea turtle interactions to be determined by NMFS); and

2. Multi-year cap on interactions with loggerhead and leatherback turtles (numbers of sea turtle interactions to be determined by NMFS).

Sea Turtle Avoidance Incentives:

1. No action - do not implement individual vessel sea turtle interaction “limits”;

2. Individual vessel “limits” for loggerhead and leatherback turtles will be available on an annual basis (calendar or fishing year) to individual vessels. These “limits” will be transferable among vessels; and

3. Any shallow-set vessel in the fleet that interacts with a certain (unspecified at this time) number of sea turtles during the calendar year or fishing year will be precluded from shallow-set fishing for a certain period (unspecified at this time).

Observer Coverage:

1. No action - 100 percent coverage;

2. A reduced level of observer coverage that achieves an appropriate extrapolation of interactions between sea turtles and the fishery;

3. NMFS covers costs for 100 percent coverage at current effort limit (2,120 longline sets), and fishing industry pays for observer costs for additional shallow-set effort beyond current limit; and

4. Fishing industry pays all on-board observer costs associated with monitoring of the Hawaii-based shallow-set longline fishery.

Public Involvement

Public scoping is an early and open process for determining the scope of issues to be addressed. A principal objective of the scoping and public involvement process is to identify a reasonable range of management alternatives that, with adequate analysis, will delineate critical issues and provide a clear basis for distinguishing between those alternatives and selecting a preferred alternative.

In addition to the public meeting (see DATES and ADDRESSES), other opportunities for public involvement will be available at WPFMC's Science and Statistical Committee meeting on September 25-27, 2007, at the WPFMC office, 1164 Bishop St, Suite 1400, Honolulu, HI 96813, and at the 139th WPFMC meeting on October 9-12, 2007, at the Ala Moana Hotel, 410 Atkinson Dr., Honolulu, HI 96815.

Special Accommodations

These meetings are physically accessible to people with disabilities. Requests for sign language interpretation or other auxiliary aids should be directed to Kitty M. Simonds, (808) 522-8220 (voice) or (808) 522-8226 (fax), at least five days prior to the meeting date.

Authority: 16 U.S.C. 1801 et seq.

Dated: August 15, 2007.
James P. Burgess,
Acting Director, Office of Sustainable Fisheries, National Marine Fisheries Service.

[FR Doc. E7-16358 Filed 8-20-07; 8:45 am]

BILLING CODE 3510-22-S